FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 4, 2020.

A. Federal Reserve Bank of Atlanta (Kathryn Haney, Assistant Vice President) 1000 Peachtree Street NE, Atlanta, Georgia 30309. Comments can also be sent electronically to Applications.Comments@atl.frb.org:

1. James Thomas Darnell, Sandra Darnell Gordon, Blake Craig Cannon, Ashley Suzanne Cannon, Lizzie Belle Gordon, William Andrew Gordon II, Xaylie Mae Gordon, Janis Darnell Cannon, and Mark Craig Cannon, all of Shelbyville, Tennessee; Sharon Patrice Darnell and Sean Keith Darnell, both of Franklin, Tennessee; Lauralee Catherine Gordon Maxwell, Nashville, Tennessee; Jerry Edwin Smith, Bell Buckle, Tennessee; and Ricky Harold Smith, Wartrace, Tennessee; to retain voting shares of First Community Bancorp, Inc., and thereby indirectly retain voting shares of First Community Bank of Tennessee, both of Shelbyville, Tennessee.

B. Federal Reserve Bank of St. Louis (David L. Hubbard, Senior Manager) P.O. Box 442, St. Louis, Missouri 63166-2034. Comments can also be sent electronically to Comments.applications@stls.frb.org:

1. This corrects the notice published on October 13, 2020 at 85 FR 64464. Catherine Hastings Owen and Harry Lee Hastings III, individually and as part of a family control group that also includes Arkansas Bolt Company; Harry L. Hastings, Jr; Stanley T. Hastings Sr.; the Harry L. Hastings Jr Family Trust and Rosalyn J. Hastings Family Trust, Harry L. Hastings III, Catherine Hastings Owen, and Stanley T. Hastings Sr. as co-trustees of both trusts; the Catherine H. Owen Descendants Gift Trusts for Harper J. Holliday, Sara O. Holliday, Steven C. Owen Jr., and an unnamed minor grandchild, Catherine Hastings Owen, trustee of those trusts; the Harry Lee Hastings III Descendants Gift Trusts for Andrew H. Hastings, Anne M. Hastings, Charles H. Hastings, Ellen B. Hastings, Harry L. Hastings IV, Harry L. Hastings V, Hollis R. Hastings, Huette M. Hastings, Mary H. Hastings, and Winston G. Hastings, Harry L. Hastings III, trustee of those trusts; the Stanley T. Hastings Sr. Descendants Gift Trusts for Alissa C. Hastings, Margo M. Hastings, Patrick T. Hastings, Stanley T. Hastings Jr., Tyler M. Hastings, Oliver M. Hastings and Andrew H. Hastings, Stanley T. Hastings Sr., trustee of those trusts; Harry L. Hastings IV; and Winston G. Hastings, all of Little Rock, Arkansas; to acquire voting shares of State Holding Company, and thereby indirectly acquire voting shares of Eagle Bank and Trust Company, both of Little Rock, Arkansas.

Board of Governors of the Federal Reserve System, October 15, 2020.
Yao-Chin Chao,
Assistant Secretary of the Board.

[FR Doc. 2020-23182 Filed 10-19-20; 8:45 am]

BILLING CODE P